DEPARTMENT OF ENERGY

Federal Energy Regulatory Commission

[Docket No. CP01-90-000]

El Paso Natural Gas Company; Notice of Request Under Blanket Authorization

February 27, 2001.

Take notice that on February 21, 2001, El Paso Natural Gas Company (El Paso), Post Office Box 1492, El Paso, Texas 79978, filed in Docket No. CP01-90-000 a request pursuant to Sections 157.205, 157.208(b)(2), and 157.211(b)(2) of the Commission's Regulations (18 CFR 157.205, 157.208 and 157.211) under the Natural Gas Act (NGA) for authorization to construct, own and operate lateral line and delivery point facilities to facilitate deliveries of natural gas to shippers to serve two gas-fired electric generation facilities, referred to as the Arlington Valley/Redhawk Project in Maricopa County, Arizona, under El Paso's blanket certificate issued in Docket No. CP82-435-000, pursuant to Section 7 of the NGA, all as more fully set forth in the application which is on file with the Commission and open to public inspection. This filing may be viewed on the web at http://www.ferc.fed.us/online/htm (call 202-208-2222 for assistance).

El Paso requests authorization to construct and operate two meter stations and approximately 6.67 miles of 20-inch, 24-inch and 26-inch diameter pipeline to serve the two electric power plants. It is indicated that Redhawk Power Plant, to be operated by Pinnacle West Corporation West Corporation (Pinnacle), will be a 2,120 megawatt, gas-fired facility requiring 410,000 Mcf per day, with a scheduled test date of October 1, 2001, and an anticipated in-service date of June 1, 2002. It is also indicated that the Arlington Valley facility, to be operated by Duke Energy Maricopa LLC (Duke), will be a 1,000 megawatt gas-fired electrical facility, will require approximately 210,000 Mcf per day, with a scheduled test date of October 1, 2001, and an in-service date of June 1, 2002.

El Paso indicates that Pinnacle is a full-requirements customer entitled to request natural gas transportation service sufficient to supply its requirements in serving its power plants. It is stated that the new delivery point will permit Pinnacle to request firm transportation service from all receipt points on its system to the Redhawk Power Plant. El Paso states that it is not aware of the nature of the upstream arrangements that will be made by Duke, but that Duke may either make arrangements to obtain bundled gas supplies, acquire capacity as a result of El Paso's recent right-of-first-refusal posting or acquire capacity from the active capacity release market.

El Paso estimates the facility costs at $7,661,700 to be reimbursed by the shippers. El Paso indicates that the construction and operation of the above-facilities is not prohibited by its tariff.

Any questions regarding the application may be directed to Robert T. Tomlinson at (915) 496-2600.

Any person or the Commission's staff may, within 45 days after the issuance of the instant notice by the Commission, file pursuant to Rule 214 of the Commission's Procedural Rules (18 CFR 385.214) a motion to intervene or notice of intervention and, pursuant to Section 157.205 of the Commission's regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to section 7 of the NGA. Comments and protests may be filed electronically via the internet in lieu of paper. See, 18 CFR 385.2001(a)(1)(iii) and the instructions on the Commission's web site at http://www.ferc.fed.us/efi/doorbell.htm.

David P. Boergers,
Secretary.

[FR Doc. 01-5179 Filed 3-2-01; 8:45 am]

BILLING CODE 6717-01-M